DEPARTMENT OF HOMELAND SECURITY

Coast Guard

[USCG-2018-1058]

Port Access Route Study: Alaskan Arctic Coast

AGENCY: Coast Guard, DHS.

ACTION: Notice of study; request for comments.

SUMMARY: In order to provide safe access routes for the movement of vessel traffic along the Arctic Coast of the United States for vessels proceeding to or from ports or places of the United States and transiting within the United States Exclusive Economic Zone (EEZ), the Coast Guard is conducting an Alaskan Arctic Coast Port Access Route Study (AACPARS) to evaluate the need for establishing vessel routing measures. The information gathered during this AACPARS may result in the establishment of one or more vessel routing measures. The goal of the AACPARS is to enhance navigational safety by examining existing shipping routes and waterway uses, and, to the extent practicable, reconciling the paramount right of navigation with other reasonable waterway uses. The recommendations of the study may lead to future rulemaking action or appropriate international agreements.

DATES: Comments must be submitted to the online docket via http://www.regulations.gov, or reach the Docket Management Facility, on or before September 1, 2019.

ADDRESSES: You may submit comments identified by docket number USCG-2018-1058 using the Federal eRulemaking Portal at http://www.regulations.gov. See the “Public Participation and Request for Comments” portion of the SUPPLEMENTARY INFORMATION section for further instructions on submitting comments.

FOR FURTHER INFORMATION CONTACT: For information about this document call or email LCDR Michael Newell, Seventeenth Coast Guard District (dpw); telephone (907) 463-2263; email Michael.D.Newell@uscg.mil or Mr. David Seris, Seventeenth Coast Guard District (dpw); telephone (907) 463-2267; email David.M.Seris@uscg.mil or LT Stephanie Bugyis, Seventeenth Coast Guard District (dpw); telephone (907) 463-2265; email Stephanie.M.Bugyis@uscg.mil.

SUPPLEMENTARY INFORMATION:

Public Participation and Comments

We encourage you to submit comments (or related materials) on the AACPARS. We will consider all submissions and may adjust our final action based on your comments. If you submit a comment, please include the docket number for this notice, indicate the specific section of this document to which each comment applies, and provide a reason for each suggestion or recommendation.

Comments should be submitted through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that website's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

Public Meeting(s)

If requested, we plan to hold public meetings to receive oral comments on this NPRM and would announce the dates, times, and locations in a separate document published in the Federal Register. To receive an email notice whenever a comment or notice—including the notice announcing when any meetings are to be held, are submitted or issued, go to the online docket and select the sign-up-for-email-alerts option. When it is published, we will place a copy of the announcement in the docket and you will receive an email alert from www.regulations.gov.

Definitions

The following definitions (except as noted by an asterisk) are from the International Maritime Organization's (IMO's) publication “Ships' Routing” Twelfth Edition 2017 and should help you review this notice:

Area to be avoided (ATBA): A routing measure comprising an area within defined limits in which either navigation is particularly hazardous or it is exceptionally important to avoid casualties and which should be avoided by all ships, or certain classes of ships.

Deep-water route: A route within defined limits which has been accurately surveyed for clearance of sea bottom and submerged obstacles as indicated on the chart.

Exclusive economic zone (EEZ)*: The zone established by Presidential Proclamation 5030, dated March 10, 1983 and delineated in the August 23, 1995, issue of the Federal Register (60 FR 43825).

Inshore traffic zone: A routing measure comprising a designated area between the landward boundary of a traffic separation scheme and the adjacent coast, to be used in accordance with the provisions of Rule 10(d), as amended, of the International Regulations for Preventing Collisions at Sea, 1972 (Collision Regulations).

Mandatory routing system: A routing system adopted by the Organization, in accordance with the requirements of regulation V/10 of the International Convention for Safety of Life at Sea 1974, for mandatory use by all ships, certain categories of ships or ships carrying certain cargoes.

Obstruction*: Anything that restricts, endangers, or interferes with navigation (33 CFR 64.06).

Precautionary area: A routing measure comprising an area within defined limits where ships must navigate with particular caution and within which the direction of traffic flow may be recommended.

Recommended route: A route of undefined width, for the convenience of ships in transit, which is often marked by centerline buoys.

Recommended track: A route which has been specially examined to ensure so far as possible that it is free of dangers and along which vessels are advised to navigate.

Regulated Navigation Area (RNA)*: A water area within a defined boundary for which regulations for vessels navigating within the area have been established under 33 CFR part 165.

Roundabout: A routing measure comprising a separation point or circular separation zone and a circular traffic lane within defined limits. Traffic within the roundabout is separated by moving in a counterclockwise direction around the separation point or zone.

Routing system: Any system of one or more routes or routing measures aimed at reducing the risk of casualties; it includes traffic separation schemes, two way routes, recommended tracks, areas to be avoided, no anchoring areas, inshore traffic zones, roundabouts, precautionary areas and deep-water routes.

Separation zone or separation line: A zone or line separating the traffic lanes in which ships are proceeding in opposite or nearly opposite directions; or separating a traffic lane from the adjacent sea area; or separating traffic lanes designated for particular classes of ship proceeding in the same direction.

Structure*: Any fixed or floating obstruction, intentionally placed in the water, which may interfere with or restrict marine navigation (33 CFR 64.06).

Traffic lane: An area within defined limits in which one-way traffic is established. Natural obstacles, including those forming separation zones, may constitute a boundary.

Traffic Separation Scheme (TSS): A routing measure aimed at the separation of opposing streams of traffic by appropriate means and by the establishment of traffic lanes.

Two-way route: A route within defined limits inside which two-way traffic is established, aimed at providing safe passage of ships through waters where navigation is difficult or dangerous.

Background and Purpose

Requirement for Port Access Route Studies

Under the Ports and Waterways Safety Act (PWSA) (33 U.S.C. 1223(c)), the Commandant of the Coast Guard may designate necessary fairways and traffic separation schemes (TSSs) to provide safe access routes for vessels proceeding to and from U.S. ports.

Previous Port Access Route Studies

The Coast Guard conducted a PARS in 1981 which focused on localized approaches for some Alaskan ports and Unimak Pass in the Aleutian Island Chain. Another PARS was conducted for the Bering Sea and Bering Strait region of Alaska to analyze the need and suitability of a vessel routing system for that region. Neither of these studies focused on the United States Arctic coast to analyze vessel traffic proceeding to or from ports and places of the United States and transiting within the United States Exclusive Economic Zone (EEZ), which will be the focus of this study.

Necessity for a New Port Access Route Study

Sea ice extent in the Arctic Ocean, Chukchi Sea, and Beaufort Sea is declining. These changes in the arctic are affecting the people, wildlife and habitat of the region which in turn has resulted in increased levels of government attention, media attention, scientific research, natural resource exploration, eco and adventure tourism, and increasing commercial use of the Northwest Passage and the Northern Sea Route as alternative shipping routes.

As the federal agency most responsible for coastal and marine spatial planning, the Coast Guard, via the PARS process, is initiating the study to analyze current vessel patterns, predict future vessel needs and balance the needs of all waterway users by developing and recommending vessel routing measures for the arctic coast.

PARS Timeline, Study Area, and Process

The PARS will begin upon publication of this Federal Register notice. The study is expected to take in excess of 48 months to complete due to the size and remoteness of the study area, expected difficulty in accessing and communicating with regional stakeholders at times when discussions will be most productive, the proximity to Canada, difficulty in predicting expected future changes in international shipping and other waterway uses, and the highly technical nature of scientific data available on the Arctic.

The study will encompass the entire EEZ of the United States Arctic coast from the border between the United States and Canada to Cape Prince of Wales on Alaska's Seward Peninsula.

As part of the study, the Coast Guard may analyze commercial vessel traffic, fishing vessel traffic, subsistence hunting and fishing activities, recreational activities, military activities, existing and potential outer continental shelf activities, port activities, environmental factors, economic effects and impacts, as well as other topics that may arise during the study process.

Specific areas of interest for initial public comment: The lack of historical information about actual vessel traffic patterns in U.S. Arctic waters, and how those patterns have changed over time, makes this PARS study unique. There are few instances where actual vessel track and density information will be available to analyze as potential routing measures are considered. Generic comments on vessels operating in U.S. Arctic waters are welcome and will be given due consideration, but at this stage in the AACPARS study, the Coast Guard is particularly interested in identifying specific locations, times, or instances where future vessel activity could increase significantly in density or cause specific undesirable consequences. Specific areas of concern include, but are not limited to:

1. Times and/or locations where vessel operations could cause significant consequences to species of concern, subsistence activities, marine mammal migration routes, or other equities.

2. Areas of known biological importance, such as the area of the Hanna Shoal, and whether they are of importance year round or only during specific times.

3. Specific times and locations of current and expected future subsistence activity.

4. Areas identified or expected to have high potential for Outer Continental Shelf resource development, to include oil/gas development, development of renewable energy sources, and extraction of seabed resources.

5. Onshore areas of particular environmental concern.

6. Areas where extreme weather or ice conditions that could impact navigation are expected to be present, now or in the future.

7. Any information on prevailing wind/current patterns and how they might change in the future in varying scenarios of decreasing or increasing sea ice coverage.

8. Any information on specific habitat characteristics (for example, water depth, ocean currents, or distances to or from land or sea ice) that tend to attract higher concentrations of marine mammals.

The Coast Guard will publish the results of the PARS in the Federal Register. It is possible that the study may validate the status quo (no routing measures) and conclude that no changes are necessary. It is also possible that the study may recommend one or more changes to enhance navigational safety and the efficiency of vessel traffic management. The recommendations may lead to future rulemakings or appropriate international agreements.

This notice is published under the authority of 5 U.S.C. 552(a).

Dated: December 4, 2018.
Melissa L. Rivera,
Captain, U.S. Coast Guard, Chief of Staff, Seventeenth Coast Guard District.

[FR Doc. 2018-27604 Filed 12-20-18; 8:45 am]

BILLING CODE 9110-04-P